DEPARTMENT OF AGRICULTURE

Natural Resources Conservation Service

[Docket No. NRCS-2016-0002]

Notice of Meeting of the Agricultural Air Quality Task Force

AGENCY: Natural Resources Conservation Service, Department of Agriculture.

ACTION: Notice of Meeting.

SUMMARY: The U.S. Department of Agriculture (USDA) Agricultural Air Quality Task Force (AAQTF) will meet for discussions on critical air quality issues relating to agriculture. Special emphasis will be placed on obtaining a greater understanding about the relationship between agricultural production and air quality. The meeting is open to the public, and a draft agenda is included in this notice.

DATES: The meeting will convene at 8:00 a.m. EDT on Wednesday and Thursday April 6-7, 2016. A public comment period will be held on the morning of April 7. The meeting will end at approximately 3:00 p.m. on April 7.

ADDRESSES: The meeting will be held at the DoubleTree Hilton Hotel, 300 Army Navy Drive, Arlington, Virginia 22202.

FOR FURTHER INFORMATION CONTACT: Questions and comments should be directed to Dr. Greg Johnson, Designated Federal Official, USDA, NRCS, 1201 Lloyd Boulevard, Suite 800, Portland Oregon 97232; telephone: (503) 273-2424; fax: (503) 273-2401; or email: greg.johnson@por.usda.gov.

SUPPLEMENTARY INFORMATION: Notice of this meeting is given under the Federal Advisory Committee Act, 5 U.S.C. App. 2. Additional information concerning AAQTF, including revised agendas for the April 6-7, 2016 meeting that occurs after this Federal Register Notice is published, may be viewed at: www.nrcs.usda.gov/wps/portal/nrcs/detail/national/air/taskforce

Draft Agenda

Meeting of the AAQTF

April 6-7, 2016 Arlington, Virginia

A. Welcome remarks and introductions

B. U.S. Department of Agriculture (USDA) and the Environmental Protection Agency (EPA) Leadership Remarks

C. AAQTF Charge, History and Direction

D. Federal Advisory Committee Rules and Guidelines

E. USDA Climate Change Building Blocks, Greenhouse Gas Mitigation, and US Agriculture

F. Update on agricultural air quality regulatory issues at the EPA

G. Updates from USDA agencies (Forest Service, NRCS, National Institute of Food and Agriculture, and Agricultural Research Service)

H. AAQTF Subcommittee Formation and Break Out Sessions

I. Agricultural Air Quality Issues and Solutions

J. Ammonia Emissions Measurement and Modeling, and USDA-EPA Collaboration

K. Public Input (Individual presentations limited to 5 minutes)

Please note that the timing of events in the agenda is subject to change to accommodate changing schedules of expected speakers and or extended discussions.

Procedural

This meeting is open to the public. On April 7, 2016, the public will have an opportunity to provide up to 5 minutes of input to the AAQTF.

Information on Services for Individuals With Disabilities

For information on facilities or services for individuals with disabilities or to request special assistance at the meeting, please contact Greg Johnson (contact information listed above). USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed this 10th day of March 2016, in Washington, DC
Jason A. Weller,
Chief.

[FR Doc. 2016-06078 Filed 3-16-16; 8:45 am]

BILLING CODE 3410-16-P